DEPARTMENT OF ENERGY

Federal Energy Regulatory Commission

Combined Notice of Filings #1

September 22, 2006.

Take notice that the Commission received the following exempt wholesale generator filings:

Docket Numbers: EG06-82-000.

Applicants: CR Clearing, LLC.

Description: Fee Collection Report of CR Clearing, LLC dba Conception Wind Power under EG06-82: Application for Exempt Wholesale Generator Status.

Filed Date: 09/13/2006.

Accession Number: 20060920-0127.

Comment Date: 5 p.m. Eastern Time on Wednesday, October 04, 2006.

Take notice that the Commission received the following electric rate filings:

Docket Numbers: ER00-2677-005.

Applicants: Covanta Delaware Valley, L.P.

Description: Covanta Delware Valley LP submits its triennial market power udpate demonstrating that it continues to lack market power in generation and transmission and cannot erect barriers.

Filed Date: 09/18/2006.

Accession Number: 20060920-0115.

Comment Date: 5 p.m. Eastern Time on Tuesday, October 10, 2006.

Docket Numbers: ER03-467-001.

Applicants: Gulf States Energy, Inc.

Description: Gulf States Energy Inc submits its triennial updated market power analysis.

Filed Date: 09/18/2006.

Accession Number: 20060920-0113.

Comment Date: 5 p.m. Eastern Time on Tuesday, October 10, 2006.

Docket Numbers: ER03-891-002.

Applicants: Gulf States Energy Investments L.P.

Description: Gulf States Energy Investments, LP submits its triennial updated market power analysis.

Filed Date: 09/18/2006.

Accession Number: 20060920-0114.

Comment Date: 5 p.m. Eastern Time on Tuesday, October 10, 2006.

Docket Numbers: ER05-1093-001.

Applicants: Hermiston Power Partnership.

Description: Hermiston Power Partnership submits its compliance filing of its revised Reactive Supply and Voltage Control from Generation Sources Service rate schedule.

Filed Date: 09/18/2006.

Accession Number: 20060920-0062.

Comment Date: 5 p.m. Eastern Time on Tuesday, October 10, 2006.

Docket Numbers: ER05-1102-002.

Applicants: Goldendale Energy Center, LLC.

Description: Goldendale Energy Center LLC submits its compliance filing of its revised Reactive Supply and Voltage Control from Generation Sources Services rate schedule.

Filed Date: 09/18/2006.

Accession Number: 20060920-0064.

Comment Date: 5 p.m. Eastern Time on Tuesday, October 10, 2006.

Docket Numbers: ER06-186-003.

Applicants: Southern California Edison Company.

Description: Southern California Edison Co submits a compliance filing required by FERC's 7/6/06 Order showing the calculation of the refund amounts including interest.

Filed Date: 09/15/2006.

Accession Number: 20060918-0383.

Comment Date: 5 p.m. Eastern Time on Friday, October 06, 2006.

Docket Numbers: ER06-587-000; ER06-587-001; ER06-587-004.

Applicants: Interstate Power and Light Company.

Description: Interstate Power and Light Co submits Substitute Sheets 1—17 of their Rate Schedule RES-5 submitted on 1/31/06.

Filed Date: 09/15/2006.

Accession Number: 20060920-0112.

Comment Date: 5 p.m. Eastern Time on Friday, October 06, 2006.

Docket Numbers: ER06-783-003.

Applicants: New York Independent System Operator, Inc.

Description: New York Independent System Operator Inc submits corrected Substitute Second Revised Sheet No. 83.01 et al to its compliance filing submitted on 8/14/06.

Filed Date: 09/18/2006.

Accession Number: 20060920-0175.

Comment Date: 5 p.m. Eastern Time on Tuesday, October 10, 2006.

Docket Numbers: ER06-1417-001.

Applicants: Weyerhaeuser Company.

Description: Weyerhaeuser Co submits the Third Amended Petition for Market-Based Rate Authority.

Filed Date: 09/18/2006.

Accession Number: 20060921-0073.

Comment Date: 5 p.m. Eastern Time on Tuesday, October 10, 2006.

Docket Numbers: ER06-1490-000.

Applicants: CERITAS Energy, LLC.

Description: Ceritas Energy, LLC submits a notice of cancellation of FERC Rate Schedule No. 1.

Filed Date: 09/14/2006.

Accession Number: 20060918-0380.

Comment Date: 5 p.m. Eastern Time on Thursday, October 05, 2006.

Docket Numbers: ER06-1494-000.

Applicants: Nevada Power Company.

Description: Nevada Power Co submits an executed 203 KV Facilities Interconnection Agreement with Valley Electric Association, Inc.

Filed Date: 09/18/2006.

Accession Number: 20060920-0111.

Comment Date: 5 p.m. Eastern Time on Tuesday, October 10, 2006.

Docket Numbers: ER06-1499-000.

Applicants: Minergy Neenah, L.L.C.

Description: Minergy Neenah, LLC submits a notice of cancellation of the Power Purchase Agreement w/ Wisconsin Power and Light Co formerly known as Alliant Energy-Wisconsin Power and Light Co.

Filed Date: 09/18/2006.

Accession Number: 20060920-0170.

Comment Date: 5 p.m. Eastern Time on Tuesday, October 10, 2006.

Docket Numbers: ER06-1500-000.

Applicants: Wisconsin Electric Power Company.

Description: Wisconsin Electric Power Co submits a notice of cancellation of its FERC Rate Schedule No. 102, a Wholesale Distribution Export Service Agreement w/ Alliant Energy Corporate Services, Inc.

Filed Date: 09/18/2006.

Accession Number: 20060920-0169.

Comment Date: 5 p.m. Eastern Time on Tuesday, October 10, 2006.

Docket Numbers: ER06-1502-000.

Applicants: Round Rock Energy LLC.

Description: Round Rock Energy LLC submits petition for acceptance of initial rate schedule, waivers and blanket authority.

Filed Date: 09/18/2006.

Accession Number: 20060920-0171.

Comment Date: 5 p.m. Eastern Time on Tuesday, October 10, 2006.

Docket Numbers: ER06-1503-000; ER06-1504; ER03-888-002.

Applicants: Nordic Marketing of Ohio, LLC; Nordic Marketing of Pennsylvania, LLC; Nordic Marketing of Illinois, LLC.

Description: Nordic Marketing of Ohio, Pennsylvania and Illinois submit their triennial updated market analysis in support of market-based rate authorization.

Filed Date: 09/15/2006.

Accession Number: 20060920-0172.

Comment Date: 5 p.m. Eastern Time on Friday, October 06, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-16011 Filed 9-28-06; 8:45 am]

BILLING CODE 6717-01-P